INTERNATIONAL TRADE COMMISSION

[Investigation Nos. 701-TA-464 and 731-TA-1160 (Review)]

Prestressed Concrete Steel Wire Strand From China

Determination

On the basis of the record ¹ developed in the subject five-year reviews, the United States International Trade Commission (“Commission”) determines, pursuant to the Tariff Act of 1930, that revocation of the countervailing and antidumping duty orders on prestressed concrete steel wire strand from China would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted these reviews on May 1, 2015 (80 FR 24976) and determined on August 4, 2015 that it would conduct expedited reviews (80 FR 50026, August 18, 2015).

The Commission made these determinations pursuant to section 751(c) of the Tariff Act of 1930 (19 U.S.C. 1675(c)). It completed and filed its determinations in these reviews on September 28, 2015. The views of the Commission are contained in USITC Publication 4569 (September 2015), entitled Prestressed Concrete Steel Wire Strand from China: Investigation Nos. 701-TA-464 and 731-TA-1160 (Review).

By order of the Commission.
Issued: September 28, 2015.
William R. Bishop,
Supervisory Hearings and Information Officer.

[FR Doc. 2015-24937 Filed 9-30-15; 8:45 am]

BILLING CODE 7020-02-P